DEPARTMENT OF VETERANS AFFAIRS

[OMB Control No. 2900-0590]

Agency Information Collection Activity under OMB Review: Department of Veterans Affairs Acquisition Regulation (VAAR) Clauses 852.237-70, Indemnification and Medical Liability Insurance; 852.228-71, Indemnification and Insurance

AGENCY: Office of Acquisition and Logistics, Department of Veterans Affairs.

ACTION: Notice.

SUMMARY: In compliance with the Paperwork Reduction Act (PRA) of 1995, this notice announces that the Office of Acquisition and Logistics, Department of Veterans Affairs (VA), will submit the collection of information abstracted below to the Office of Management and Budget (OMB) for review and comment. The PRA submission describes the nature of the information collection and its expected cost and burden, and it includes the actual data collection instrument.

DATES: Comments and recommendations for the proposed information collection should be sent by December 24, 2025.

ADDRESSES: To submit comments and recommendations for the proposed information collection, please type the following link into your browser: www.reginfo.gov/publicdo/PRA/Main, select “Currently under Review—Open for Public Comments, then search the list for the information collection by Title or “OMB Control No. 2900-0590.”

FOR FURTHER INFORMATION CONTACT: VA PRA information: Dorothy Glasgow, 202-461-1084, VAPRA@va.gov.

SUPPLEMENTARY INFORMATION:

Title: Department of Veterans Affairs Acquisition Regulation (VAAR) Clauses 852.237-70, Indemnification and Medical Liability Insurance; 852.228-71, Indemnification and Insurance.

OMB Control Number: 2900-0590. https://www.reginfo.gov/public/do/PRASearch.

Type of Review: Reinstatement without change of a previously approved collection.

Abstract: VAAR clause 852.237-70, Indemnification and Medical Liability Insurance, is used in lieu of Federal Acquisition Regulation (FAR) clause 52.237-7, Indemnification and Medical Liability Insurance, in solicitations and contracts for the acquisition of nonpersonal health care services. It requires the apparent successful bidder/offeror, upon the request of the contracting officer, prior to contract award, to furnish evidence of insurability of the offeror and/or all health-care providers who will perform under the contract. In addition, the clause requires the contractor, prior to commencement of services under the contract, to provide Certificates of Insurance or insurance policies evidencing that the firm possesses the types and amounts of insurance required by the solicitation. The information is required in order to protect VA by ensuring that the firm to which award may be made and the individuals who may provide health care services under the contract are insurable and that, following award, the contractor and its employees will continue to possess the types and amounts of insurance required by the solicitation. It helps ensure that VA will not be held liable for any negligent acts of the contractor or its employees and ensures that VA and VA beneficiaries are protected by adequate insurance coverage.

VAAR clause 852.228-71, Indemnification and Insurance, is used in solicitations for vehicle or aircraft services. It requires the apparent successful bidder/offeror, prior to contract award, to furnish evidence that the firm possesses the types and amounts of insurance required by the solicitation. This evidence is in the form of a certificate from the firm's insurance company. The information is required to protect VA by ensuring that the firm to which award will be made possesses the types and amounts of insurance required by the solicitation. It helps ensure that VA will not be held liable for any negligent acts of the contractor and ensures that VA beneficiaries and the public are protected by adequate insurance coverage.

VA uses the information to determine whether additional contract terms and conditions are necessary. An agency may not conduct or sponsor, and a person is not required to respond to a collection of information unless it displays a currently valid OMB control number. The Federal Register notice with a 60-day comment period soliciting comments on this collection of information was published at 90 FR 39264, August 14, 2025.

Affected Public: Business or other for profit and not-for-profit institutions.

Estimated Annual Burden:

a. VAAR Clause 852.237-7, Indemnification and Medical Liability Insurance—750 hours.

b. VAAR clause 852.228-71, Indemnification and Insurance—250 hours.

Estimated Average Burden Per Respondent:

a. VAAR Clause 852.237-7, Indemnification and Medical Liability Insurance—30 minutes.

b. VAAR clause 852.228-71, Indemnification and Insurance—30 minutes.

Frequency of Response:

a. VAAR Clause 852.237-7, Indemnification and Medical Liability Insurance—1 per each contract awarded.

b. VAAR clause 852.228-71, Indemnification and Insurance—1 per each contract awarded.

Estimated Number of Respondents:

a. VAAR Clause 852.237-7, Indemnification and Medical Liability Insurance—1500.

b. VAAR clause 852.228-71, Indemnification and Insurance—500.

(Authority: 44 U.S.C. 3501 et seq.)

Dorothy Glasgow,
Acting, VA PRA Clearance Officer, Office of Information Technology, Data Governance Analytics, Department of Veterans Affairs.

[FR Doc. 2025-20743 Filed 11-21-25; 8:45 am]

BILLING CODE 8320-01-P